DEPARTMENT OF THE INTERIOR

Bureau of Land Management

[OR-930-6333 PH COMP, HAG 04-0075]

Notice of Availability of the Supplemental Environmental Impact Statement for Management of Port-Orford-Cedar in Southwest Oregon

AGENCY: Bureau of Land Management, Interior.

ACTION: Notice of Availability.

SUMMARY: The Forest Service (FS) and Bureau of Land Management (BLM) have prepared a Final Supplemental Environmental Impact Statement (FSEIS) for management of Port-Orford-cedar in southwest Oregon. The Agencies are supplementing the analyses contained in the Final EISs for the Resource Management Plans for the Coos Bay, Medford, and Roseburg BLM Districts (1995) and the Land and Resource Management Plan for the Siskiyou National Forest (1988), generally federally managed forestlands in southwest Oregon.

The FSEIS is now available to the public. Requests to receive copies of the FSEIS should be sent to the address listed below. Alternately, the FSEIS is available on the Internet at http://www.or.blm.gov/planning/Port-Orford-cedar_SEIS/. Copies are also available for inspection at FS and BLM offices in southwestern Oregon and northwestern California, public libraries within the range of the cedar, and in the BLM Oregon State Office reading room at 333 SW. First Avenue, Portland, Oregon. All submissions from organizations or businesses will be made available for public inspection in their entirety. Individuals may request confidentiality with respect to their name, address, and phone number. If you wish to have your name or street withheld from public review, or from disclosure under the Freedom of Information Act, the first line of the comment should start with the words “CONFIDENTIALITY REQUESTED” in uppercase letters in order for BLM to comply with your request. Such request will be honored to the extent allowed by law. Comment contents will not be kept confidential.

DATES: Publication of the Environmental Protection Agency (EPA) Notice of Availability and filing of the FSEIS in the Federal Register initiates a 30-day Protest Period for the Bureau of Land Management (see 43 CFR § 1610.5-02) . The EPA Notice of Availability appeared in the Federal Register on January 23, 2004. An appeal period for the Forest Service will be initiated with the signing of the Record of Decision.

ADDRESSES: To request copies of the document, or to add your name to the mailing list, contact: Port-Orford-Cedar SEIS Team, P.O. Box 2965, Portland, Oregon 97208; or e-mail to ORPOCEIS@or.blm.gov; or FAX to (503) 326-2396 and specify POC SEIS Team.

FOR FURTHER INFORMATION CONTACT: Ken Denton, SEIS Team Leader, P.O. Box 2965, Portland, Oregon 97208; telephone (503) 326-2368.

SUPPLEMENTARY INFORMATION: Port-Orford-cedar is killed by an exotic root disease (Phytophthora lateralis) that is linked, at least in part, to transport of spore-infested soil by human and other vectors. Waterborne spores then readily spread the disease down slope and downstream.

Six alternatives are considered in detail in the FSEIS. Alternative 1, no action, continues the current direction of implementing available disease-management practices based on site-specific analysis. Alternative 2 uses the same management practices but adds a risk key to clarify the environmental conditions that require implementation of additional site-specific practices, and identifies and emphasizes protection within uninfested 7th field watersheds. Alternative 3 includes almost all elements of Alternative 2 and adds additional protections for 32 currently uninfested 6th field watersheds. Alternative 4 removes existing disease management practices but accelerates the resistant breeding program to provide resistant stock for all areas within ten years. Alternative 5 also removes existing disease management practices and stops development of resistant seed for remaining undeveloped breeding zones. Alternative 6 incorporates all elements of Alternative 2 and adds additional protections for uninfested 7th field watersheds. The preferred alternative is Alternative 2. A decision to select one of the action alternatives would amend the management direction in one FS Land and Resource Management Plan and three BLM Resource Management Plans in the planning area.

The FSEIS addresses deficiencies identified in a February 12, 2003, U.S District Court decision, which held the Resource Management Plan EIS for the Coos Bay District and a related project Environmental Assessment did not adequately analyze the cumulative effects of management activities on the health of Port-Orford-cedar outside the project area.

The analysis considers the entire natural range of Port-Orford-cedar, but only plans within the Oregon portion of the range are proposed for amendment at this time. The responsible official for lands administered by the Forest Service is the Forest Supervisor for the Siskiyou and Rogue River National Forests. The responsible official for public lands administered by the BLM is the State Director, Oregon State Office.

Dated: January 15, 2004.
A. Barron Bail,
Associate State Director, Oregon and Washington, Bureau of Land Management.

[FR Doc. 04-1795 Filed 1-26-04; 8:45 am]

BILLING CODE 4310-33-P